DEPARTMENT OF ENERGY

Federal Energy Regulatory Commission

[Project No. 2150]

Puget Sound Energy; Notice of Technical Conference

February 24, 2005.

The Commission hereby gives notice that members of its staff will meet with Puget Sound Energy (Puget) and other stakeholders on March 16, 2005, from 9 a.m. to 5 p.m. (P.s.t.) at the U.S. Army Corps of Engineers District Office in Seattle, Washington. Commission staff will continue the technical conference the next day from 9 a.m. to 5 p.m. should an additional day of discussions be warranted. The U.S. Army Corps of Engineers Seattle District Office is located at 4735 E. Marginal Way S., Seattle, Washington 98134. Any additional information will be posted on the Commission's Web site soon at: http://www.ferc.gov/EventCalendar/EventsADay.aspx?Date=3/16/2005&CalendarID=0.

The purpose of the conference is to discuss Puget's amended license application for the Baker River Hydroelectric Project filed January 31, 2005, and Puget's settlement agreement filed November 30, 2004. The Baker River Hydroelectric Project is located on the Baker River in Skagit and Whatcom Counties, Washington.

This conference is open to the public. All local, state, and federal agencies, Indian tribes, and other interested parties are invited to participate. There will be no transcript of the conference.

Please contact Steve Hocking at steve.hocking@ferc.gov or (202) 502-8753 with any questions or for additional information.

Magalie R. Salas,
Secretary.

[FR Doc. E5-830 Filed 3-1-05; 8:45 am]

BILLING CODE 6717-01-P